DEPARTMENT OF LABOR

Employment and Training Administration

[TA-W-65,394]

Insert Molding Technologies, Inc., Warren, PA; Notice of Termination of Investigation

Pursuant to Section 221 of the Trade Act of 1974, as amended, an investigation was initiated on February 26, 2009 in response to a petition filed on behalf of workers at Insert Molding Technologies, Inc., Warren, Pennsylvania. The workers at the subject facility produce molded plastic parts.

The petitioners have requested that the petition be withdrawn. Consequently, the investigation has been terminated.

Signed in Washington, DC, this 5th day of June 2009.
Richard Church,
Certifying Officer, Division of Trade Adjustment Assistance.

[FR Doc. E9-15743 Filed 7-2-09; 8:45 am]

BILLING CODE 4510-FN-P